DEPARTMENT OF COMMERCE

Patent and Trademark Office

Agency Information Collection Activities; Submission to the Office of Management and Budget for Review and Approval; Comment Request; Post Allowance and Reissue

AGENCY: United States Patent and Trademark Office, Department of Commerce.

ACTION: Notice of information collection; request for comments.

SUMMARY: The United States Patent and Trademark Office (USPTO) will submit the following information collection request to the Office of Management and Budget (OMB) for review and clearance in accordance with the Paperwork Reduction Act of 1995, on or after the date of publication of this notice. The USPTO invites comments on the information collection renewal of 0651-0033 (Post Allowance and Reissue), which helps the USPTO assess the impact of its information collection requirements and minimize the reporting burden on the public. Public comments were previously requested via the Federal Register on October 23, 2025, during a 60-day comment period (90 FR 48505). This notice allows for an additional 30 days for public comments.

DATES: To ensure consideration, you must submit comments regarding this information collection on or before March 30, 2026.

ADDRESSES: Written comments and recommendations for this information collection should be submitted within 30 days of the publication of this notice on the following website, http://www.reginfo.gov/public/do/PRAMain. Find this particular information collection by selecting “Currently under 30-day Review—Open for Public Comments” or by using the search function and entering either the title of the information collection or the OMB Control Number, 0651-0033. Do not submit Confidential Business Information or otherwise sensitive or protected information.

FOR FURTHER INFORMATION CONTACT: This information collection request may be viewed at http://www.reginfo.gov. Follow the instructions to view the Department of Commerce, USPTO information collections currently under review by OMB.

• Email: InformationCollection@uspto.gov. Include “0651-0033 information request” in the subject line of the message.

• Mail: Justin Isaac, Office of the Chief Administrative Officer, United States Patent and Trademark Office, P.O. Box 1450, Alexandria, VA 22313-1450.

• Telephone: Raul Tamayo, Senior Legal Advisor, 571-272-7728.

SUPPLEMENTARY INFORMATION:

Title: Post Allowance and Reissue.

OMB Control Number: 0651-0033.

Abstract: This collection of information covers the submission of issue fee payments, requests for certificates of correction, and reissue applications to the United States Patent and Trademark Office (USPTO). The USPTO is required by 35 U.S.C. 131 and 151 to examine applications and, when appropriate, allow applications and issue them as patents. When an application for a patent is allowed by the USPTO, the USPTO issues a notice of allowance and the applicant must pay the specified issue fee within three months to avoid abandonment of the application. If the appropriate fees are paid within the proper time period, the USPTO can then issue the patent. The rules outlining the procedure or payment of the issue fee and issuance of a patent are found at 37 CFR 1.18, 1.311, and 1.314.

This collection of information also covers several transactions that may be taken after issuance of a patent.

Pursuant to 35 U.S.C. 254 and 255, a certificate of correction may be requested to correct an error or errors of an issued patent. If the USPTO determines that the request should be approved, the USPTO will issue a certificate of correction.

For an original patent that is believed to be wholly or partly inoperative or invalid, the original patentee, or the current patent owner if there was been a subsequent assignment, may apply for the reissue of the patent. The reissue application process requires, among other items, provision of an oath or declaration specifically identifying at least one error being relied upon as the basis for reissue and stating the reason for the belief that the original patent is wholly or partly imperative or invalid (e.g., a defective specification or drawing, or claiming more or less than the patentee had the right to claim in the patent). The rules outlining reissue application procedures are found at 37 CFR 1.171-1.173 and 1.175-1.178.

The information in this information collection can be submitted using the USPTO patent electronic filing system (Patent Center) for patent applications and related documents.

Forms: (AIA = America Invents Act; SB = Specimen Book; PTOL = Patent Trademark Official Legal Forms)

• PTO/AIA/05 (Reissue Application Declaration by the Inventor)

• PTO/AIA/06 (Reissue Application Declaration by the Assignee)

• PTO/AIA/07 (Substitute Statement in Lieu of an Oath or Declaration for Reissue Patent Application (35 U.S.C. 115(d) and 37 CFR 1.64)

• PTO/AIA/50 (Reissue Patent Application Transmittal)

• PTO/AIA/53 (Reissue Application: Consent of Assignee; Statement of Non-Assignment)

• PTO/SB/44 (Certificate of Correction)

• PTO/SB/51 (Reissue Application Declaration by the Inventor)

• PTO/SB/51S (Supplemental Declaration for Reissue Patent Application to Correct “Errors” Statement (37 CFR 1.175)

• PTO/SB/52 (Reissue Application Declaration by the Assignee)

• PTO/SB/53 (Reissue Application: Consent of Assignee; Statement of Non-Assignment)

• PTO/SB/56 (Reissue Application Fee Transmittal Form)

• PTOL-85 Part B (Fee(s) Transmittal)

Type of Review: Extension and revision of a currently approved information collection.

Affected Public: Private sector.

Respondent's Obligation: Required to obtain or retain benefits.

Frequency: On occasion.

Estimated Number of Annual Respondents: 473,710 respondents.

Estimated Number of Annual Responses: 473,710 responses.

Estimated Time per Response: The USPTO estimates that the responses in this information collection will take the public approximately 30 minutes (0.50 hours) to 5.30 hours to complete. This includes the time to gather the necessary information, create the document, and submit the completed item(s) to the USPTO.

Estimated Total Annual Respondent Burden Hours: 392,186 hours.

Estimated Total Annual Respondent Non-Hourly Cost Burden: $477,308,180. The postage costs have increased since the publication of the 60-day Federal Register notice, from $10.40 to $12.25 for the Priority Mail legal flat rate envelope used for mailed submissions. As a result, the estimated postage costs have increased from $24,638 to $29,020. This accounts for the additional $4,382 to the estimated total annual non-hourly cost burden.

Justin Isaac,
Information Collections Officer, Office of the Chief Administrative Officer, United States Patent and Trademark Office.

[FR Doc. 2026-03899 Filed 2-25-26; 8:45 am]

BILLING CODE 3510-16-P